DEPARTMENT OF STATE

[Public Notice: 12584]

Advisory Committee on Historical Diplomatic Documentation; Notice of Closed and Open Meetings for 2025

ACTION: Notice.

SUMMARY: The Advisory Committee on Historical Diplomatic Documentation will meet, in open and closed sessions, to discuss matters concerning declassification and transfer of Department of State records to the National Archives and Records Administration and the status of the Foreign Relations series.

DATES: March 10-11, June 9-10, September 8-9, and December 8-9, 2025.

ADDRESSES: Open sessions for the meetings will take place from 10:00 a.m. until noon in SA-4D Conference Room 109, Department of State, 2300 E Street NW, Washington DC, 20372 (Potomac Navy Hill Annex), with a virtual option on March 10, June 9, September 8, and December 8. RSVP and requests for reasonable accommodation for each meeting should be sent as directed below:

• March 10, not later than March 3, 2025.

• June 9, not later than June 2, 2025.

• September 8, not later than September 1, 2025.

• December 8, not later than December 1, 2025.

FOR FURTHER INFORMATION CONTACT: Questions concerning the meeting should be directed to Adam M. Howard, Executive Secretary, Advisory Committee on Historical Diplomatic Documentation, Department of State, Office of the Historian, Washington, DC, 20372, telephone: (202) 955-0214, email: history@state.gov.

SUPPLEMENTARY INFORMATION: Closed Sessions. The following sessions will be closed in accordance with Section 10(d) of the Federal Advisory Committee Act (Pub. L. 92-463):

• March 10 and 11—afternoon and morning;

• June 9 and 10—afternoon and morning;

• September 8 and 9—afternoon and morning; and

• December 8 and 9—afternoon and morning, respectively.

The agenda calls for discussions of agency declassification decisions concerning the Foreign Relations series and other declassification issues. These are matters properly classified and not subject to public disclosure under 5 U.S.C. 552b(c)(1) and the public interest requires that such activities be withheld from disclosure.

RSVP Instructions. To attend a meeting virtually, please forward your name and email address to Julie Fort, Office of the Historian (FSIOHRSVP@state.gov), prior to the applicable date above.

If you intend to attend one of the meetings in person, please note that prior notification and a valid government-issued photo ID (such as driver's license, passport, U.S. Government or military ID) are required for entrance into any Department of State building. Members of the public planning to attend the open meetings in person should RSVP, by the dates indicated above, to Julie Fort, Office of the Historian (FSIOHRSVP@state.gov). When responding, please provide date of birth, valid government-issued photo identification number and type (such as driver's license number/state, passport number/country, or U.S. Government ID number/agency or military ID number/branch), and relevant telephone numbers. If you cannot provide one of the specified forms of ID, please consult with Julie Fort at FortJL@state.gov for acceptable alternative forms of picture identification.

Personal data is requested pursuant to Pub. L. 99-399 (Omnibus Diplomatic Security and Antiterrorism Act of 1986), as amended; Pub. L. 107-56 (USA PATRIOT Act); and Executive Order 13356. The purpose of the collection is to validate the identity of individuals who enter Department facilities. The data will be entered into the Visitor Access Control System (VACS-D) database. Please see the Security Records System of Records Notice (State-36) at https://www.state.gov/wp-content/uploads/2019/05/Security-Records-STATE-36.pdf, for additional information.

Note that requests for reasonable accommodation received after the dates indicated in this notice will be considered but might not be possible to fulfill.

Adam M. Howard,
Executive Secretary, Office of the Historian, Department of State.

[FR Doc. 2024-27116 Filed 11-19-24; 8:45 am]

BILLING CODE 4710-34-P